DEPARTMENT OF THE INTERIOR

Bureau of Land Management

[ID-111-1610-DR-049D]

Notice of Availability of the Record of Decision for the Snake River Birds of Prey National Conservation Area Resource Management Plan, Idaho

AGENCY: Bureau of Land Management, Interior.

ACTION: Notice of availability.

SUMMARY: The Bureau of Land Management (BLM) announces the availability of the Record of Decision (ROD) for the Snake River Birds of Prey National Conservation Area (NCA) Resource Management Plan (RMP) located in Southwestern Idaho.

ADDRESSES: Copies of the ROD are available upon request from Boise District, Bureau of Land Management, 3948 Development Ave., Boise, Idaho 83705, phone 208-384-3300. Copies can also be downloaded in their entirety at http://www.blm.gov/id/.

FOR FURTHER INFORMATION CONTACT: John Sullivan, NCA Manager, BLM Four Rivers Field Office, 3948 Development Ave., Boise, Idaho 83705; phone 208-384-3300; e-mail John_Sullivan@blm.gov.

SUPPLEMENTARY INFORMATION: In accordance with the Federal Land Policy and Management Act of 1976 (FLPMA, 43 U.S.C. 1701 et seq.), the BLM prepared the NCA RMP to address management of approximately 484,000 acres of public land along 81 miles of the Snake River. The NCA was established on August 4, 1993, by Public Law 103-64 for the conservation, protection, and enhancement of the natural and environmental resources and values associated with the area, including raptor populations and habitats. The NCA RMP replaces portions of the 1983 Kuna Management Framework Plan (MFP), 1983 Bruneau MFP, 1987 Jarbidge RMP, 1988 Cascade RMP, and 1999 Owyhee RMP that affect the NCA, and replaces the 1996 Snake River Birds of Prey NCA Management Plan.

The NCA RMP enhances the protection of remaining shrub communities through aggressive wildfire suppression; the restoration of up to 130,000 acres of shrub habitat; the completion of up to 100,000 acres of fuels management projects; the modification of Idaho Army National Guard training activities by limiting vehicle maneuver training to non-shrub communities, and providing 4,100 acres of additional maneuver training area; and the identification of area designations (i.e., livestock grazing, vehicle use, right-of-way avoidance, and utility corridors). The approved RMP is the same as Alternative D displayed in the Proposed RMP/Final EIS published in February 2008 with minor modifications and clarifications resulting from changes in the status of federally listed threatened and endangered species. In addition, the area known as Pasture 8B of the Battle Creek Allotment is no longer listed as closed to grazing, but may be grazed at BLM's discretion, under contract or as temporary non-renewable forage, for the purpose of meeting specific NCA resource management objectives, including weed reduction, hazardous fuels management, and ecological improvement. These minor modifications and clarifications did not result in substantial changes to the proposed action.

All protests received by the BLM regarding the RMP have been addressed. No inconsistencies with State or local plans, policies, or programs were identified during the Governor's consistency review of the proposed RMP.

Thomas H. Dyer,
Idaho State Director, Bureau of Land Management.

[FR Doc. E8-28967 Filed 12-5-08; 8:45 am]

BILLING CODE 4310-GG-P